DEPARTMENT OF THE TREASURY

Submission for OMB Review; Comment Request

May 30, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 9, 2001 to be assured of consideration.

Internal Revenue Service (IRS)

OMB Number: 1545-1354.

Form Number: IRS Form 8833.

Type of Review: Extension.

Title: Treaty-Based Return Position Disclosure Under Section 6114 or 7701(b).

Description: Form 8833 is used by taxpayers that are required by section 6114 to disclose a treaty-based return position to disclose a treaty-based return position to disclose that position. The form may also be used to make the treaty-based position disclosure required by regulations section 301.7701(b)-7(b) for “dual resident” taxpayers.

Respondents: Individuals or households, Business or other for-profit.

Estimated Number of Respondents/Recordkeepers: 6,000.

Estimated Burden Hours Per Respondent/Recordkeeper:

Recordkeeping—3 hr., 6 min.

Learning about the law or the form—1 hr., 35 min.

Preparing and sending the form to the IRS—1 hr., 42 min.

Frequency of Response: Annually.

Estimated Total Reporting/Recordkeeping Burden: 38,460 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports, Management Officer.

[FR Doc. 01-14304 Filed 6-6-01; 8:45 am]

BILLING CODE 4830-01-P